DEPARTMENT OF LABOR

Occupational Safety and Health Administration

[Docket No. OSHA-2010-0007]

Nationally Recognized Testing Laboratory Program Regulation; Extension of the Office of Management and Budget's (OMB) Approval of Information Collection (Paperwork) Requirements

AGENCY: Occupational Safety and Health Administration (OSHA), Labor.

ACTION: Request for comments.

SUMMARY: OSHA requests comments concerning the proposed extension of the information collection requirements specified by the Program Regulation for Nationally Recognized Testing Laboratories (the Regulation). The Regulation specifies procedures that organizations must follow to apply for, and to maintain, OSHA's recognition to test and certify equipment, products, or material for safe use in the workplace.

DATES: Submit comments, information, and documents in response to this notice, or requests for an extension of time to make a submission, on or before July 27, 2021.

ADDRESSES:

Electronically: You may submit comments, including attachments, electronically at http://www.regulations.gov, the Federal eRulemaking Portal. Follow the instructions online for submitting comments.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office for assistance in locating docket submissions.

Instructions: All submissions must include the agency name and the OSHA docket number for this Federal Register notice (OSHA-2017-0014). OSHA will place comments and requests to speak, including personal information, in the public docket, which may be available online. Therefore, OSHA cautions interested parties about submitting personal information such as Social Security numbers and birthdates. For further information on submitting comments, see the “Public Participation” heading in the section of this notice titled SUPPLEMENTARY INFORMATION.

FOR FURTHER INFORMATION CONTACT: Seleda Perryman or Theda Kenney, Directorate of Standards and Guidance, OSHA, U.S. Department of Labor, Washington, DC; telephone (202) 693-2222.

SUPPLEMENTARY INFORMATION:

I. Background

The Department of Labor, as part of the continuing effort to reduce paperwork and respondent burden, conducts a preclearance consultation program to provide the public with an opportunity to comment on continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection from employers as necessary or appropriate for enforcement of the OSH Act or for developing information regarding the causes and prevention of occupational injuries, illnesses, and accidents (29 U.S.C. 657). The OSH Act also requires OSHA to obtain such information with minimum burden upon employers, especially those operating small businesses, and to reduce to the maximum extent feasible unnecessary duplication of efforts in obtaining information (29 U.S.C. 657).

A number of standards issued by OSHA contain requirements that specify employers use only equipment, products, or material tested or approved by a Nationally Recognized Testing Laboratory (NRTL). These requirements ensure that employers use safe and efficacious equipment, products, or materials in complying with the standards. Accordingly, OSHA promulgated the Program Regulation for Nationally Recognized Testing Laboratories, 29 CFR 1910.7 (the Regulation). The Regulation specifies procedures that organizations must follow to apply for, and to maintain, OSHA's recognition to test and certify equipment, products, or material for safe use in the workplace.

II. Special Issues for Comment

OSHA has a particular interest in comments on the following issues:

1. Whether the proposed information collection requirements are necessary and useful for the proper performance of the agency's functions;

2. The accuracy of OSHA's estimate of the burden (time and costs) of the information collection requirements, including the validity of the methodology and assumptions used;

3. The quality, utility, and clarity of the information collected; and

4. Ways to minimize the burden on organizations that must comply; for example, by using automated or other technological information collection and transmission techniques.

III. Proposed Actions

OSHA proposes to extend the Office of Management and Budget's (OMB) approval of the collection of information requirements specified by the Regulation. The agency revised the estimate of the number of audits it conducts each year upward, from 44 to 47, because the agency has recognized three additional NRTLs, bringing the total number of recognized laboratories to 23. This revised estimate accounts for the increased burden hours to complete paperwork, from 1,523 to 1,571 and the increased total costs to respondents resulting from collections of information, from $728,352 to $757,440. The agency also revised its average hourly rate estimate for an electrical engineer upward, from $47.41 to $74.18, based on current BLS data. This revised estimate and the agency's revised estimate for the number of audits it conducts each year accounts for the increased cost estimates to complete paperwork, from $72,205.43 to $116,589.45. The agency will summarize the comments submitted in response to this Notice, and will include this summary in the request to OMB to revise the approval of these information collection requirements.

Type of Review: Extension of a currently approved information collection.

Title: Definition and Requirements of a Nationally Recognized Testing Laboratory (29 CFR 1910.7).

OMB Control Number: 1218-0147.

Affected Public: Business or other for-profit.

Number of Respondents: 23.

Frequency of Recordkeeping: On occasion.

Total Responses: 145.94.

Average Time per Response: Varies.

Estimated Total Burden Hours: 1,571.71.

Estimated Cost (Operation and Maintenance): $757,440.

IV. Public Participation—Submission of Comments on This Notice and Internet Access to Comments and Submissions

You may submit comments in response to this document as follows: (1) Electronically at http://www.regulations.gov, which is the Federal eRulemaking Portal; (2) by facsimile (fax); or (3) by hard copy. Please note: While OSHA's Docket Office is continuing to accept and process submissions by regular mail, due to the COVID-19 pandemic, the Docket Office is closed to the public and not able to receive submissions to the docket by hand, express mail, messenger, and courier service. All comments, attachments, and other material must identify the agency name and the OSHA docket number for the ICR (Docket No. OSHA-2010-0007). You may supplement electronic submissions by uploading document files electronically. If you wish to mail additional materials in reference to an electronic or facsimile submission, you must submit them to the OSHA Docket Office (see the section of this notice titled ADDRESSES). The additional materials must clearly identify electronic comments by your name, date, and the docket number so that the agency can attach them to your comments.

Due to security procedures, the use of regular mail may cause a significant delay in the receipt of comments.

Comments and submissions are posted without change at http://www.regulations.gov. Therefore, OSHA cautions commenters about submitting personal information such as social security numbers and dates of birth. Although all submissions are listed in the http://www.regulations.gov index, some information (e.g., copyrighted material) is not publicly available to read or download through this website. All submissions, including copyrighted material, are available for inspection and copying at the OSHA Docket Office. Information on using the http://www.regulations.gov website to submit comments and access the docket is available at the website's “User Tips” link. Contact the OSHA Docket Office at (202) 693-2350, (TTY (877) 889-5627) for information about materials not available through the website, and for assistance in using the internet to locate docket submissions.

V. Authority and Signature

James S. Frederick, Acting Assistant Secretary of Labor for Occupational Safety and Health authorized the preparation of this notice. The agency is issuing this notice pursuant to Section 8(g)(2) of the Occupational Safety and Health Act of 1970 (29 U.S.C. 657(g)(2)), Secretary of Labor's Order No. 1-2012 (77 FR 3912, Jan. 25, 2012), OSHA's Program Regulation for Nationally Recognized Testing Laboratories, 29 CFR 1910.7, and the Paperwork Reduction Act of 1995 (44 U.S.C 3506 et seq.).

Signed at Washington, DC, on May 21, 2021.
James S. Frederick,
Acting Assistant Secretary of Labor for Occupational Safety and Health.

[FR Doc. 2021-11369 Filed 5-27-21; 8:45 am]

BILLING CODE 4510-26-P